DEPARTMENT OF THE INTERIOR

National Park Service

[NPS-WASO-NAGPRA-NPS0039524; PPWOCRADN0-PCU00RP14.R50000]

Notice of Intended Repatriation: Culver-Stockton College, Canton, MO

AGENCY: National Park Service, Interior.

ACTION: Notice.

SUMMARY: In accordance with the Native American Graves Protection and Repatriation Act (NAGPRA), the Culver-Stockton College intends to repatriate certain cultural items that meet the definition of sacred objects/objects of cultural patrimony and that have a cultural affiliation with the Indian Tribes or Native Hawaiian organizations in this notice.

DATES: Repatriation of the cultural items in this notice may occur on or after April 18, 2025.

ADDRESSES: C. Patrick Hotle, Culver-Stockton College, NO 1 College Hill, Canton, MO 63435, telephone (217) 592-2300, email photle@culver.edu.

SUPPLEMENTARY INFORMATION: This notice is published as part of the National Park Service's administrative responsibilities under NAGPRA. The determinations in this notice are the sole responsibility of Culver-Stockton College and additional information on the determinations in this notice, including the results of consultation, can be found in the summary or related records. The National Park Service is not responsible for the determinations in this notice.

Abstract of Information Available

A total of six cultural items have been requested for repatriation. The six sacred objects/objects of cultural patrimony are four pipes, a ceremonial axe and a boatstone. No. 782, Box E is a steatite boatstone engraved and drilled measuring 4″ by ⅝″ from Union County, GA. No. 740, Box E is a white marble ceremonial axe measuring 14¼″ by 6″ from Bartow County, GA. No. 785, Box E is a steatite bear effigy pipe measuring 1½″ by 1¼″ from Lumpkin, County, GA. No. 1107, Box E is a steatite human effigy pipe measuring 7¼″ by ½″1 from Bartow County, GA. No. 1113, Box G is a steatite fish effigy pipe measuring 12″ by 3½″ from Gibson County, Tennessee. No. 755, Box H is a sandstone bird effigy pipe measuring 11½″ by 3¼″ from an unknown location in Tennessee. All of these objects came to the college through the Paul Cory collection given in 1975. Nothing is known about these objects but what is written on the objects themselves. There has been no potentially hazardous substances used to treat these objects.

Determinations

The Culver-Stockton College has determined that:

• The six sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and The Muscogee (Creek) Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 18, 2025. If competing requests for repatriation are received, the Culver-Stockton College must determine the most appropriate requestor prior to repatriation. Requests for joint repatriation of the cultural items are considered a single request and not competing requests. The Culver-Stockton College is responsible for sending a copy of this notice to the Indian Tribes and Native Hawaiian organizations identified in this notice and to any other consulting parties.

Authority: Native American Graves Protection and Repatriation Act, 25 U.S.C. 3004 and the implementing regulations, 43 CFR 10.9.

Dated: February 11, 2025.
Melanie O'Brien,
Manager, National NAGPRA Program.

[FR Doc. 2025-04459 Filed 3-18-25; 8:45 am]

BILLING CODE 4312-52-P